DEPARTMENT OF TRANSPORTATION

Federal Aviation Administration

14 CFR Part 39

[Docket No. FAA-2017-0251; Directorate Identifier 2016-NM-101-AD]

RIN 2120-AA64

Airworthiness Directives; The Boeing Company Airplanes

AGENCY: Federal Aviation Administration, DOT.

ACTION: Notice of proposed rulemaking.

SUMMARY: We propose to adopt a new airworthiness directive (AD) for The Boeing Company Model 757-200 series airplanes with certain supplemental type certificates. This proposed AD was prompted by a report indicating that the main cargo door (MCD) forward-most cam latch on the forward center cam latch pair broke during flight. This proposed AD would require repetitive inspections for discrepancies of cam latches, latch pins, and latch pin cross bolts of the MCD; replacement of all alloy steel cross bolts through the latch pins with corrosion-resistant steel (CRES) cross bolts of the MCD; and related investigative and corrective actions if necessary. We are proposing this AD to address the unsafe condition on these products.

DATES: We must receive comments on this proposed AD by July 24, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact VT Mobile Aerospace Engineering Inc., 2100 9th Street, Brookley Aeroplex, Mobile, AL 36615; telephone: 251-379-0112; email: mae.757sf@vtmae.com; Internet: http://www.vtmae.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0251; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Samuel Belete, Aerospace Engineer, Systems and Equipment Branch, ACE-119A, FAA, Atlanta Aircraft Certification Office (ACO), 1701 Columbia Avenue, College Park, GA 30337; telephone: 404-474-5580; fax: 404-474-5605; email: samuel.belete@faa.gov.

SUPPLEMENTARY INFORMATION:

Comments Invited

We invite you to send any written relevant data, views, or arguments about this proposal. Send your comments to an address listed under the ADDRESSES section. Include “Docket No. FAA-2017-0251; Directorate Identifier 2016-NM-101-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received a report indicating that a forward-most cam latch of the forward center cam latch pair on a Model 757 airplane MCD broke during flight. We issued AD 2015-25-01, Amendment 39-18339 (80 FR 79461, December 22, 2015) (“AD 2015-25-01”), to address the unsafe condition for The Boeing Company Model 757-200, 757-200CB, and 767-200PF series airplanes delivered under a Boeing supplemental type certificate. We have determined that action is needed to address the same unsafe condition on Model 757-200 series airplanes that have been converted from a passenger to a freighter configuration in accordance with VT Mobile Aerospace Engineering Inc. (MAE) Supplemental Type Certificate (STC) ST03562AT (14 pallet) or VT MAE STC ST04242AT (15 pallet), and from passenger to combination cargo/passenger configuration in accordance with VT MAE STC ST03952AT (combi). The VT MAE MCD cam latches and latch pins are similar to those in the Boeing MCD addressed in AD 2015-25-01. However, AD 2015-25-01 does not include the airplanes addressed in this proposed AD. We are proposing this AD to detect and correct discrepancies of the MCD cam latches, latch pins, and latch pin cross bolts, which, if left undetected, could reduce the structural integrity of the MCD, and result in potential loss of the cargo door and rapid decompression of the airplane.

Related Service Information Under 1 CFR Part 51

We reviewed VT Mobile Aerospace Engineering Inc. Service Bulletin MAE757SF-SB-52-12/02, Revision 3, dated July 22, 2016 (“MAE757SF-SB-52-12/02, R3”). The service information describes procedures for doing inspections for discrepancies of cam latches, latch pins, and latch pin cross bolts of the MCD; replacement of all alloy steel cross bolts through the latch pins with CRES cross bolts of the MCD; and related investigative and corrective actions. This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would require accomplishing the actions specified in the service information described previously, except as discussed under “Differences Between this Proposed AD and the Service Information.”

Related investigative actions include detailed inspections of mating parts and adjacent cam latches and cam pins for cracks and gouges, high frequency eddy current or magnetic particle inspection of cam latches for cracks, and checks of the rig of the MCD. Corrective actions include replacing discrepant parts, repairing damage, and rigging the MCD.

The compliance time for the general visual inspection is 375 flight cycles after the rig of the MCD was checked. The initial compliance time for the other inspections is before the accumulation of 40,000 total latch pin flight cycles, or 3,000 or 6,000 flight cycles after the rig of the MCD was checked. The compliance time for the replacement is 3,000 flight cycles after the rig of the MCD was checked. The compliance times for the repetitive inspections range from 375 flight cycles to 6,000 flight cycles.

Differences Between This Proposed AD and the Service Information

Where MAE757SF-SB-52-12/02, R3, specifies doing actions on airplanes meeting certain conditions identified in the “Condition” column of table 1 of paragraph I.D., “Compliance,” this proposed AD specifies doing these actions on all airplanes.

Costs of Compliance

We estimate that this proposed AD affects 119 airplanes of U.S. registry.

We estimate the following costs to comply with this proposed AD:

Estimated Costs
Action | Labor cost | Parts cost | Cost per product | Cost on U.S. operators
Inspections | 20 work-hours × $85 per hour = $1,700 per inspection cycle | $0 | $1,700 per inspection cycle | $202,300 per inspection cycle.

We estimate the following costs to do any necessary related investigative and corrective actions that would be required based on the results of the proposed inspection. We have no way of determining the number of aircraft that might need these actions:

On-Condition Costs
Action | Labor cost | Parts cost | Cost per product
Related investigative and corrective actions | Up to 144 work-hours × $85 per hour = $12,240 | Up to $3,000 | Up to $15,240.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2017-0251; Directorate Identifier 2016-NM-101-AD.

(a) Comments Due Date

We must receive comments by July 24, 2017.

(b) Affected ADs

None.

(c) Applicability

This AD applies to The Boeing Company Model 757-200 series airplanes, certificated in any category, that have been converted from passenger to freighter configuration as specified in any of the VT Mobile Aerospace Engineering Inc. Supplemental Type Certificates (STCs) identified in paragraphs (c)(1), (c)(2), and (c)(3) of this AD.

(1) ST03562AT (14 pallet) (http://rgl.faa.gov/Regulatory_and_Guidance_Library/rgstc.nsf/0/7239683609eb1b4086257ff1004d0f2b/$FILE/ST03562AT.pdf).

(2) ST04242AT (15 pallet) (http://rgl.faa.gov/Regulatory_and_Guidance_Library/rgstc.nsf/0/edd46d607cedd3a286257ff1004d8d82/$FILE/ST03952AT.pdf.)

(3) ST03952AT (combi—airplanes that can carry passenger, freight, or both in the cabin) (http://rgl.faa.gov/Regulatory_and_Guidance_Library/rgstc.nsf/0/edd46d607cedd3a286257ff1004d8d82/$FILE/ST03952AT.pdf).

(d) Subject

Air Transport Association (ATA) of America Code 52, Doors.

(e) Unsafe Condition

This AD was prompted by a report indicating that the main cargo door (MCD) forward-most cam latch on the forward center cam latch pair broke during flight. We are issuing this AD to detect and correct discrepancies of the MCD cam latches, latch pins, and latch pin cross bolts, which, if left undetected, could reduce the structural integrity of the MCD and result in potential loss of the cargo door and rapid decompression of the airplane.

(f) Compliance

Comply with this AD within the compliance times specified, unless already done.

(g) Repetitive Inspections, Replacement, and Related Investigative and Corrective Actions

At the applicable time specified in paragraph I.D., “Compliance,” of VT Mobile Aerospace Engineering Inc. Service Bulletin MAE757SF-SB-52-12/02, Revision 3, dated July 22, 2016 (“MAE757SF-SB-52-12/02, R3”), except as required by paragraph (h)(1) of this AD; or within 30 days after the effective date of this AD, whichever occurs later: Do the actions specified in paragraphs (g)(1) through (g)(4) of this AD, and do all applicable related investigative and corrective actions, in accordance with the Accomplishment Instructions of MAE757SF-SB-52-12/02, R3, except as specified in paragraph (h)(2) of this AD. Do all applicable related investigative and corrective actions before further flight. Repeat the inspections specified in paragraphs (g)(1), (g)(2), and (g)(4) of this AD thereafter at the applicable intervals specified in paragraph I.D., “Compliance,” of MAE757SF-SB-52-12/02, R3.

(1) Do a general visual inspection for any broken or missing cam latches, latch pins, and latch pin cross bolts of the MCD.

(2) Do a detailed inspection for any cracks or gouges in critical areas of the cam latches and latch pins of the MCD and for any cam latches with lip deformation.

(3) Replace all previously unreplaced alloy steel cross bolts through the latch pins with corrosion resistant steel (CRES) cross bolts of the MCD.

(4) Do a high frequency eddy current (HFEC) or magnetic particle inspection for any cracks in the critical areas of cam latch 1 and cam latch 2 of the MCD.

(h) Exceptions to Service Information

(1) Where the “Condition” column of table 1 of paragraph I.D., “Compliance,” of MAE757SF-SB-52-12/02, R3, refers to airplanes meeting certain conditions identified in “Condition 1”: for this AD, “Condition 1” applies to all airplanes.

(2) Where the Accomplishment Instructions of MAE757SF-SB-52-12/02, R3, specify doing actions only for airplanes that had completed a certain rig and check of the MCD on them, this AD requires doing those actions on all airplanes.

(i) Credit for Previous Actions

This paragraph provides credit for the actions specified in paragraph (g) of this AD, if those actions were performed before the effective date of this AD using VT Mobile Aerospace Engineering Inc. Service Bulletin MAE757SF-SB-52-12/02, Revision 2, dated February 18, 2016.

(j) Special Flight Permit

A special flight permit may be issued in accordance with sections 21.197 and 21.199 of the Federal Aviation Regulations (14 CFR 21.197 and 21.199) to operate the airplane, for a single unpressurized flight, to a location where the airplane can be modified.

(k) Alternative Methods of Compliance (AMOCs)

(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l)(1) of this AD.

(2) Before using any approved AMOC, notify your appropriate principal inspector, or lacking a principal inspector, the manager of the local flight standards district office/certificate holding district office.

(l) Related Information

(1) For more information about this AD, contact Samuel Belete, Aerospace Engineer, Systems and Equipment Branch, ACE-119A, FAA, Atlanta ACO, 1701 Columbia Avenue, College Park, GA 30337; telephone 404-474-5580; fax 404-474-5605; email: samuel.belete@faa.gov.

(2) For service information identified in this AD, contact VT Mobile Aerospace Engineering Inc., 2100 9th Street, Brookley Aeroplex, Mobile, AL 36615; telephone: 251-379-0112; email: mae.757sf@vtmae.com; Internet: http://www.vtmae.com. You may view this referenced service information at the FAA, Transport Airplane Directorate, 1601 Lind Avenue SW., Renton, WA. For information on the availability of this material at the FAA, call 425-227-1221.

Issued in Renton, Washington, on April 11, 2017.
Dionne Palermo,
Acting Manager, Transport Airplane Directorate, Aircraft Certification Service.

[FR Doc. 2017-11893 Filed 6-7-17; 8:45 am]

BILLING CODE 4910-13-P